DEPARTMENT OF ENERGY

Federal Energy Regulatory Commission

[Docket No. CP09-68-000]

Texas Eastern Transmission, LP; Notice of Availability of the Environmental Assessment for the Proposed TEMAX and TIME III Projects

September 11, 2009.

The staff of the Federal Energy Regulatory Commission (FERC or Commission) has prepared an environmental assessment (EA) on the natural gas pipeline facilities proposed by Texas Eastern Transmission, LP (Texas Eastern) in the above-referenced docket.

The U.S. Army Corps of Engineers (USACE) and Pennsylvania Department of Conservation and Natural Resources participated as cooperating agencies in the preparation of the EA. Cooperating agencies have jurisdiction by law or special expertise with respect to resources potentially affected by the proposal and participate in the NEPA analysis. The projects would require a permit from the USACE pursuant to section 404 of the Clean Water Act (33 United States Code 1344).

The EA assesses the potential environmental affects resulting from two distinct projects known as the Texas Eastern Market Area Crossing (TEMAX) and Texas Eastern Incremental Market Area Expansion III (TIME III) Projects, in accordance with the requirements of the National Environmental Policy Act of 1969 (NEPA). The FERC staff concludes that approval of the proposed projects, with appropriate mitigating measures, would not constitute a major Federal action significantly affecting the quality of the human environment.

These projects consist of replacement of 25.9 miles of various diameter pipeline, construction of 9.6 miles of loop,¹ use of 0.8 mile of existing pipeline, and construction of 26.5 miles of new pipeline lateral. In addition, Texas Eastern requests authorization to add 85,633 horsepower (hp) of compression at four existing compressor stations and abandon 9,500 hp of compression at one compressor station, resulting in a net increase of 76,133 hp of compression for the projects. Texas Eastern also requests authorization to uprate the maximum allowable operating pressure of its existing Lines 1 and 2 from 1,000 to 1,112 pounds per square inch gauge for 268 miles between its Uniontown and Marietta Compressor Stations. The proposed facilities are located in Greene, Bedford, Franklin, Adams, Lancaster and York Counties, Pennsylvania.

¹ A pipeline “loop” is a segment of pipe installed adjacent and parallel to an existing pipeline system that is connected to the system at both ends. A loop allows more gas to be moved through that portion of the pipeline system or functions as a backup system.

The TEMAX Project would provide additional natural gas transportation capacity of 395,000 dekatherms per day (Dth/d) from a receipt point with the Rockies Express Pipeline LLC in Clarington, Ohio, to an interconnect with Transcontinental Gas Pipeline Company, LLC (Transco) in York County, Pennsylvania. The TIME III Project, would provide additional transportation capacity of 60,000 Dth/d from a receipt point in Oakford, Pennsylvania to the same interconnect with Transco.

The EA has been placed in the public files of the FERC. A limited number of copies of the EA are available for distribution and public inspection at: Federal Energy Regulatory Commission, Public Reference Room, 888 First Street, NE., Room 2A, Washington, DC 20426. (202) 502-8371.

Copies of the EA have been mailed to Federal, State, and local agencies; interested groups and individuals; local newspapers and libraries in the project areas; Native American groups; and parties to this proceeding.

Any person wishing to comment on the EA may do so. To ensure consideration prior to a Commission decision on the proposal, it is important that we receive your comments before the date specified below.

You can make a difference by providing us with your specific comments or concerns about the TEMAX and TIME III Projects. Your comments should focus on the potential environmental effects, reasonable alternatives, and measures to avoid or lessen environmental impacts. The more specific your comments, the more useful they will be. To ensure that your comments are timely and properly recorded, please send in your comments so that they will be received in Washington, DC on or before October 13, 2009.

For your convenience, there are three methods in which you can use to submit your comments to the Commission. In all instances please reference the project's docket number CP09-68-000 with your submission. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First Street, NE., Room 1A, Washington, DC 20426.

If you choose the option to mail your comments, label one copy of the comments for the attention of the Gas Branch 1, PJ-11.1.

Comments will be considered by the Commission but will not serve to make the commentor a party to the proceeding. Any person seeking to become a party to the proceeding must file a motion to intervene pursuant to Rule 214 of the Commission's Rules of Practice and Procedures (18 CFR 385.214).² Only intervenors have the right to seek rehearing of the Commission's decisions.

² Interventions may also be filed electronically via the Internet in lieu of paper. See the previous discussion of filing comments electronically.

Affected landowners and parties with environmental concerns may be granted intervenor status upon showing good cause by stating that they have a clear and direct interest in this proceeding which would not be adequately represented by any other parties. You do not need intervenor status to have your comments considered.

Additional information about the projects is available from the Commission's Office of External Affairs at 1-866-208-FERC or on the FERC Internet Web site (http://www.ferc.gov) using the eLibrary link. Click on the eLibrary link, then on “General Search” and enter the docket number excluding the last three digits in the docket number field (i.e., CP09-68). Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as orders, notices, and rulemakings.

In addition, the Commission offers a free service called eSubscription which allows you to keep track of all formal issuances and submittals in specific dockets. This can reduce the amount of time you spend researching proceedings by automatically providing you with notifications of these filings, document summaries and direct links to the documents. Go to http://www.ferc.gov/esubscribenow.htm.

Kimberly D. Bose,
Secretary.

[FR Doc. E9-22477 Filed 9-17-09; 8:45 am]

BILLING CODE 6717-01-P